DEPARTMENT OF ENERGY

Federal Energy Regulatory Commission

[Project No. 11588-027—AK]

Alaska Power and Telephone Company; Notice of Availability of Environmental Assessment

June 28, 2007.

An environmental assessment (EA) is available for public review. The EA was prepared for an application filed by Alaska Power and Telephone Company (licensee) on January 26, 2007, and supplemented on March 6 and April 5, 2007, requesting Commission approval for an Amendment of License to Modify Project Design at the Kasidaya Hydroelectric Project. The project is located on Kasidaya Creek at Taiya Inlet, 3 miles south of the City of Skagway, Alaska. The project occupies lands within the Tongass National Forest, administered by the U.S. Forest Service.

The licensee has requested that in lieu of passing the penstock through a tunnel to cross Kasidaya Creek and gain access to the diversion structure, they would like to have the penstock cross over Kasidaya Creek with a modular steel bridge. The penstock would be buried adjacent to the access road, except for crossing the creek, on a small bridge adjacent to the aluminum block culvert. In addition to being significantly less expensive than the tunnel, the bridge arrangement would also provide more convenient access to the diversion site for construction and operation of the project.

The Environmental Assessment (EA), which is attached to the order approving order amending license and revising annual charges, evaluates the environmental effects of the relocation and redesign of project facilities. While these changes to project facilities will impact areas not specifically evaluated in previous EA's, the environmental effects are expected to be similar.

A copy of the EA is attached to a Commission order titled “Approving Order Amending License and Revising Annual Charges,” issued June 27, 2007 and is available for review at the Commission or may be viewed on the Commission's web site at http://www.ferc.gov using the “eLibrary” link. Enter the docket number excluding the last three digits in the docket number field to access documents. For assistance, contact FERC Online Support at FERCOnlineSupport@ferc.gov or toll-free at 1-866-208-3676, or for TTY, (202) 502-8659.

Kimberly D. Bose,
Secretary.

[FR Doc. E7-12926 Filed 7-3-07; 8:45 am]

BILLING CODE 6717-01-P